DEPARTMENT OF HEALTH AND HUMAN SERVICES

Centers for Disease Control and Prevention

[30Day-04-04JM]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an email to omb@cdc.gov. Send written comments to CDC Desk Officer, Human Resources and Housing Branch, New Executive Office Building, Room 10235, Washington, DC 20503 or by fax to (202) 395-6974. Written comments should be received within 30 days of this notice.

Proposed Project

HIV Prevention Capacity-Building Assistance (CBA) Information Collection: Reporting and Monitoring System—New—National Center for HIV, STD, and TB Prevention (NCHSTP), Centers for Disease Control and Prevention (CDC).

Background

CDC is requesting a 3-year clearance for information collection forms to monitor the HIV prevention activities of CBA provider grantees funded by CDC from 2004 to 2009. These forms will be used to collect information that assists in monitoring CBA services and activities. CDC is responsible for monitoring and evaluating HIV prevention activities conducted under these cooperative agreements. This requires that CDC have current information regarding the progress of CBA activities and services supported through these cooperative agreements. Therefore, forms such as the Trimester Interim Progress Report, CBA Notification Form, CBA Completion Form, and CBA Training Events Report are considered a critical component of the monitoring and evaluation process. Since, this program will encompass approximately 36 CBA provider organizations, there is a need for a standardized system for reporting individual episodes of CBA delivered by all CBA provider grantees. The collection of data will help CDC discern and refine national goals and objectives in the prevention of HIV.

CBA providers will be required to submit CBA Trimester Progress Reports (form A). The purpose of the CBA Trimester Progress Report is to describe CBA undertaken during the previous four months. The Trimester Progress Report will be a narrative on the programs' successes and barriers; process and outcome monitoring data; collaborative and cooperative activities with other organizations; and plans for future activities.

To effectively track and monitor all requests for capacity building assistance, CBA providers will be required to submit a CBA Notification Form (form B) following each contact with a community based organization (CBO) or HIV prevention stakeholder for CBA services. The purpose of this form is to track all requests for services from CBOs, health departments, and stakeholders. Requests for CBA from these CBOs and stakeholders are received by CBA providers on an on-going basis.

CBA providers will also be required to submit a CBA Completion Form (form C) following each episode of CBA service delivered to all CBOs and stakeholders. The purpose of this form is to provide feedback and follow-up information to CDC Project Officers on the types of CBA services and quality of services that were delivered to all CBOs by CBA Providers. CBA requests from CBOs, health departments, and stakeholders are received by CBA providers on an on-going basis. Information collection will be on-going throughout the duration of the cooperative agreements.

In addition, CBA providers will be required to submit pre-planned CBA training events for a CBA Training Events Report (form D). The CBA Training Events Report is used to disseminate planned capacity building assistance activities delivered by CBA providers, the CDC, and other organizations providing training and technical assistance.

It is estimated that Form A will require 4 hours of preparation by the respondent, Form B will require 15 minutes of preparation by the respondent, Form C will require 30 minutes of preparation by the respondent, and Form D will require 2 hours of preparation by the respondent. The annualized burden is estimated to be 2,196 hours.

Form name | Number of respondents | Number of responses per respondent | Average burden per response (in hrs.)
Form A: CBA Trimester Report | 36 Grantees | 3 | 4
Form B: CBA Notification Form | 36 CBA Provider Grantees | 50 | 15/60
Form C: CBA Completion Form | 36 CBA Provider Grantees | 25 | 30/60
Form D: CBA Training Events Report | 36 CBA Provider Grantees | 12 | 2

Dated:
Alvin Hall,
Director, Management Analysis and Services Office, Centers for Disease Control and Prevention.

[FR Doc. 04-19218 Filed 8-20-04; 8:45 am]

BILLING CODE 4163-18-P